FEDERAL HOUSING FINANCE AGENCY

12 CFR Parts 1290 and 1291

RIN 2590-AB08

Affordable Housing Program—Technical Revisions

AGENCY: Federal Housing Finance Agency.

ACTION: Final rule; technical revisions.

SUMMARY: The Federal Housing Finance Agency (FHFA) is making technical revisions to its regulation governing the Federal Home Loan Banks' (Banks) Affordable Housing Program (AHP) and to related provisions in the Community Support Requirements regulation, which were both amended by a final rule published on November 28, 2018. These technical revisions are consistent with FHFA's policy intent, as reflected in the preamble discussions of the 2018 final rule, and do not involve any policy changes.

DATES: This rule is effective July 1, 2022.

FOR FURTHER INFORMATION CONTACT: Ted Wartell, Manager, Office of Housing and Community Investment, 202-649-3157, ted.wartell@fhfa.gov; Tiffani Moore, Supervisory Policy Analyst, Office of Housing and Community Investment, 202-649-3304, tiffani.moore@fhfa.gov; or Marshall Adam Pecsek, Assistant General Counsel, Office of General Counsel, 202-649-3380, marshall.pecsek@fhfa.gov (these are not toll-free numbers); Federal Housing Finance Agency, 400 7th Street SW, Washington, DC 20219. For TTY/TRS users with hearing and speech disabilities, dial 711 and ask to be connected to any of the contact numbers above.

SUPPLEMENTARY INFORMATION:

I. Summary of Revisions

On November 28, 2018, FHFA published a final rule (2018 final rule) (83 FR 61186) that amended its regulation governing requirements for the Banks' AHP (12 CFR part 1291). Since publication of the 2018 final rule, FHFA has identified inadvertent omissions in the regulatory text, and opportunities for clarification and streamlining of the regulatory text and preamble language. This rule makes these technical revisions, which are summarized below and further described in Sections II. and III. below.

• Clarifies that the equation in the 2018 final rule preamble illustrating the pro rata AHP subsidy repayment calculation more accurately describes the calculation if the word “occupied” were replaced with the word “owned”;

• Clarifies in the regulatory text that amendments to Bank's annual Targeted Community Lending Plan (TCLP) that relate to its AHP must be published no later than the publication date of its AHP Implementation Plan, regardless of whether a Bank plans to establish any Targeted Funds, which was inadvertently omitted from the regulatory text;

• Reinserts the word “construction” inadvertently omitted from various places in the regulatory text related to owner-occupied units constructed with AHP subsidy, as they continue to be subject to the AHP retention agreement requirement;

• Clarifies in the regulatory text that the criteria in a Bank's scoring tie-breaker methodology for its General Fund and any Targeted Funds must be selected from the applicable Fund's scoring criteria, as in identical to the scoring criteria and not modified versions of them;

• Reinserts inadvertently omitted regulatory text exempting the Banks from the requirement to review annual certifications from owners or sponsors of Low-Income Housing Tax Credit (LIHTC) projects during the AHP long-term monitoring period;

• Clarifies in the regulatory text that a Bank must review all annual certifications from AHP project sponsors or owners during the AHP long-term monitoring period (subject to certain exceptions), i.e., a Bank may not use a risk-based sampling plan to select the certifications it will review;

• Clarifies the regulatory text governing a Bank's authority to establish various maximum AHP subsidy limits for its General Fund and any Targeted Funds; and

• Streamlines the regulatory text by eliminating a superfluous regulatory provision on non-delegation regarding adoption of Bank policies on re-use of repaid AHP direct subsidies.

II. Clarification of Equation in 2018 Final Rule Preamble Illustrating Pro Rata AHP Subsidy Repayment Calculation—§ 1291.15(a)(7)(v)(A)

Section 1291.15(a)(7)(v)(A) of the 2018 final rule revised the methodology for calculating the amount of AHP subsidy to be repaid by an AHP-assisted household in the event that the household's owner-occupied unit is sold or refinanced during the AHP five-year retention period. One component of this calculation, retained but modified from the predecessor AHP regulation, is a requirement that the amount of AHP subsidy to be repaid be “reduced on a pro rata basis per month until the unit is sold, transferred, or its title or deed transferred, or is refinanced, during the AHP five-year retention period.” Consistent with this requirement, the preamble of the 2018 final rule stated that the AHP subsidy amount is to be “reduced on a pro rata basis for the time that the household owned the unit until its sale or refinancing.” 83 FR 61203 (emphasis added). An equation in the preamble illustrating this pro rata calculation used the word “occupied” rather than “owned.” Id. While ownership and occupancy are typically coextensive for AHP-assisted households, this may not always be the case. Accordingly, the equation reads more accurately if the word “occupied” is replaced with the word “owned”, as follows:

III. Revisions to Regulatory Text

A. Requirement To Publish Targeted Community Lending Plan No Later Than Publication of AHP Implementation Plan—§§ 1290.6(c), 1291.13(a)(2)

The 2018 final rule requires that a Bank publish its current TCLP on its publicly available website, and publish any amendments to its TCLP on the website within 30 days after the date of their adoption by the Bank's board of directors. The final rule further states that if a Bank plans to establish any Targeted Funds under its AHP, the Bank must publish its TCLP (as amended) on its website on or before the date of publication of its annual AHP Implementation Plan, and at least 90 days before the first day that applications may be submitted to the Targeted Fund, unless the Targeted Fund is specifically targeted to address a Federal- or state-declared disaster. 12 CFR 1290.6(c), 1291.13(a)(2).

The preamble to the 2018 final rule stated that “. . . the final rule requires the Banks to publish their TCLPs no later than the publication date of their AHP Implementation Plans.” 83 FR 61197. The 2018 final rule's regulatory text inadvertently omitted this TCLP publication timing requirement when a Bank does not plan to establish any Targeted Funds. Accordingly, to align the regulatory text with FHFA's stated intent, FHFA is amending § 1290.6(c) of the Community Support Requirements regulation and § 1291.13(a)(2) of the AHP regulation to require that a Bank's TCLP (as amended) must be published no later than the date of publication of the Bank's AHP Implementation Plan (as amended), regardless of whether a Bank plans to establish any Targeted Funds. Because a Bank's TCLP also addresses Bank activity and plans not related to its AHP (e.g., establishment of quantitative targeted community lending performance goals under § 1290.6(a)(5)(iv)), these amendments to the rule text specify that only those TCLP amendments related to the Bank's AHP must be published on or before publication of the annual AHP Implementation Plan.

B. Retention Agreements on Owner-Occupied Units Constructed With AHP Subsidy—§§ 1291.1 (Definition of “Retention Period”), 1291.15(a)(7), 1291.23(d)(1)

In several places in the 2018 final rule's regulatory text, the rule requires or references a requirement that an AHP-assisted owner-occupied unit be subject to an AHP retention agreement if the AHP subsidy is used for the purchase, or purchase in conjunction with rehabilitation, of the unit, but inadvertently omits the word “construction” in these provisions. This omission would suggest that AHP retention agreements are not required where AHP subsidy is used for construction of the unit. Omission of the word “construction” is correct with respect to households that receive AHP subsidy under the Bank's homeownership set-aside programs, as AHP subsidy may not be used for construction under those programs. However, the omission is not correct where AHP subsidy is used for construction under the Banks' competitive application programs (i.e., the General Fund and any Targeted Funds), a permissible use under those programs. As further discussed below, FHFA did not intend to eliminate this requirement for AHP retention agreements for the competitive application programs. In a July 2019 “Questions and Answers” document posted on FHFA's website and sent to the Banks, FHFA acknowledged this inadvertent omission and stated its intent to correct the error in a future rule.¹

¹ See Questions and Answers on the November 28, 2018 Final Rule—Part I (July 2019), available at https://www.fhfa.gov/PolicyProgramsResearch/Programs/AffordableHousing/Documents/OHCI%20-%20QA.pdf.

The predecessor AHP regulation required retention agreements for all owner-occupied units for which AHP subsidy use was authorized—i.e., purchase, rehabilitation, or construction of units in projects awarded subsidies under a Bank's competitive application program, and purchase or rehabilitation of units by households funded under a Bank's homeownership set-aside program(s). 12 CFR 1291.9(a)(7) (Jan. 1, 2018 edition). In its proposed rule to amend the AHP regulation, FHFA proposed eliminating the requirement for retention agreements for all AHP-assisted owner-occupied units, regardless of how the AHP subsidy was used. 83 FR 11351. However, in the 2018 final rule, FHFA decided to eliminate the requirement for retention agreements only where the AHP subsidy is used solely for rehabilitation without an accompanying purchase. In reinserting the retention agreement language in the final rule, FHFA inadvertently omitted the existing regulatory references to “construction.”

FHFA's intent in this regard is clear in the preamble discussion in the 2018 final rule. Where the preamble first summarizes the effect of the final rule, it states that the rule's effect is to “remove the requirement for retention agreements for owner-occupied units where the AHP subsidy is used solely for rehabilitation,” and includes no indication of an intent to remove the requirement under any other circumstances. Id. at 61186. The preamble further states that “[i]n a change from the proposed rule, the final rule eliminates the current requirement for owner-occupied retention agreements where households use the AHP subsidy solely for rehabilitation of a unit, but retains it in other circumstances.” Id. at 61192 (emphases added). This is further indicated by the subsequent analysis in the preamble, which acknowledges commenters' claims about the benefits of owner-occupied retention agreements, but only includes a justification for eliminating the requirement where the subsidy is used solely for rehabilitation without an accompanying purchase. See id. at 61193 (concluding that abuse, in the form of “flipping,” is unlikely “where the AHP subsidy is used solely for rehabilitation of homes, with no accompanying purchase.”) Had FHFA intended to eliminate the requirement for retention agreements for owner-occupied units where the AHP subsidy is used for construction, the preamble would have included an acknowledgment of this change as well as a rationale, neither of which appears in the preamble.

Accordingly, to align the regulatory text with FHFA's intent, FHFA is amending § 1291.23(d)(1) to reinsert construction as a use of AHP subsidy in owner-occupied projects for which AHP retention agreements are required, and also making conforming revisions to §§ 1291.1 (definition of “retention period”) and 1291.15(a)(7) (introductory text).

C. Scoring Tie-Breaker Methodology—§ 1291.25(c)(3)

The 2018 final rule requires a Bank to establish and implement a scoring tie-breaker policy for selecting between or among project applications receiving identical scores under its General Fund and any Targeted Funds in the same funding round when there is insufficient AHP subsidy to approve all of the tied applications but sufficient subsidy to approve one of them. The Bank is required to meet certain requirements specified in the final rule in establishing its scoring tie-breaker policy, including that the methodology used to break a scoring tie, which may differ for each Fund, must be “drawn from” the particular Fund's scoring criteria adopted in the Bank's AHP Implementation Plan. 12 CFR 1291.25(c)(3). The preamble to the 2018 final rule states that, with one limited exception, the scoring tie-breaker requirements are “consistent with guidance FHFA has provided to the Banks and with the proposed rule.” 83 FR 61212. That guidance, Advisory Bulletin 2013-06, provided examples of permitted scoring tie-breaker methodologies that a hypothetical Bank could adopt, each of which incorporated scoring criteria identical to those included in the hypothetical Bank's AHP Implementation Plan.

A question has arisen as to whether the scoring tie-breaker provision in the 2018 final rule permits a Bank to adopt a scoring tie-breaker methodology that incorporates scoring criteria similar, but not identical, to specific scoring criteria for the applicable Fund in the Bank's AHP Implementation Plan. As indicated in the preamble to the 2018 final rule, in light of the relevant guidance in Advisory Bulletin 2013-06, FHFA intended that a Bank's scoring tie-breaker methodology for a particular Fund be identical to one or more scoring criteria for that Fund in the Bank's AHP Implementation Plan. The phrase “drawn from” was intended to indicate that a Bank would select, from all of the existing scoring criteria in its AHP Implementation Plan, one or more of those scoring criteria to serve as the scoring tie-breaker(s). It was not intended that a Bank could use modified versions of its existing scoring criteria.

Accordingly, to more closely align the regulatory text with FHFA's intent, FHFA is amending § 1291.25(c)(3) by replacing the phrase “drawn from” with the phrase “selected from.”

D. Exception to Annual Certification Requirement for LIHTC Projects During Long-Term Monitoring; Clarification That a Bank May Not Conduct Risk-Based Sampling of Annual Project Sponsor or Owner Certifications During the Long-Term Monitoring Period—§ 1291.50(c)(1)(i), (c)(2)(ii); Exception to Annual Certification Requirement for LIHTC Projects

Section 1291.50(c)(1) of the 2018 final rule requires generally that each Bank conduct long-term monitoring of AHP-assisted rental projects for the duration of the AHP 15-year retention period. This monitoring includes Bank review of annual certifications by project sponsors or owners of compliance with the AHP household income and rent requirements and ongoing project financial viability (paragraph (c)(1)(i)). The predecessor AHP regulation provided for an exception to this annual certification requirement where the project received LIHTCs under paragraph (a)(2), or where the project received funds from a Federal, state or local government entity under paragraph (a)(3). 12 CFR 1291.7(a)(2), (3) (Jan. 1, 2018 edition). The 2018 final rule retained the exception for projects receiving funds from such government entities in § 1291.50(b), but in reorganizing the various monitoring provisions, inadvertently omitted the exception for LIHTC projects from § 1291.50(c)(1)(i). FHFA's intent to retain this exception for LIHTC projects is clearly indicated in the preamble of the 2018 final rule, which states that: “[c]onsistent with the current regulation and proposed rule, the final rule does not require the Banks to conduct long-term monitoring of AHP projects that received LIHTCs during the AHP 15-year retention period.” 83 FR 61201. In the above-referenced “Questions and Answers” guidance document, FHFA acknowledged this inadvertent omission and stated its intent to correct it in a future rule.²

² See Questions and Answers on the November 28, 2018 Final Rule—Part I (July 2019), available at https://www.fhfa.gov/PolicyProgramsResearch/Programs/AffordableHousing/Documents/OHCI%20-%20QA.pdf.

Accordingly, to align the regulatory text with FHFA's stated intent, FHFA is amending § 1291.50(c)(1)(i) to provide that during long-term monitoring of AHP-assisted rental projects, a Bank is not required to review annual certifications by sponsors or owners of LIHTC projects.

Scope of risk-based sampling. Section 1291.50(c)(1)(ii) of the 2018 final rule requires that a Bank's written monitoring policies also include requirements for Bank review of back-up project documentation regarding household incomes and rents maintained by the project sponsor or owner, except for LIHTC projects and projects that received funds from a Federal, state or local government entity under § 1291.50(b)(1) and (2) as specified in separate FHFA guidance. Section 1291.50(c)(2)(ii) provides that a Bank may use a reasonable, risk-based sampling plan to select the rental projects “to be monitored under this paragraph (c),” and to review the back-up project documentation and any other project documentation. The corresponding provision in the predecessor AHP regulation included annual project sponsor or owner certifications as eligible for risk-based sampling, but this option was removed by the 2018 final rule because, in practice, as noted in the preamble to the 2018 AHP proposed rule, the Banks review all annual project sponsor or owner certifications (subject to the exceptions discussed above), consistent with FHFA's expectation. 83 FR 11364. However, the phrase “to be monitored under this paragraph (c)” in § 1291.50(c)(2)(ii) might be misread to suggest that a Bank may use a risk-based sampling plan to select the annual project sponsor or owner certifications it will review.

Accordingly, to better align the regulatory text with FHFA's intent, FHFA is amending § 1291.50(c)(1)(i) to provide that during AHP long-term monitoring, a Bank must review all annual project sponsor or owner certifications (subject to the exceptions discussed above), i.e., a Bank may not use a risk-based sampling plan under § 1291.50(c)(2)(ii) to select the annual project sponsor or owner certifications it will review.

E. Maximum Subsidy Limits—§ 1291.24(c)(1)

Section 1291.24(c)(1) of the 2018 final rule authorizes a Bank to establish, in its discretion, a limit on the maximum amount of AHP subsidy available per member, per project sponsor, per project, or per project unit in a single AHP funding round under its General Fund and any Targeted Funds. The provision further states that a Bank may establish only one maximum subsidy limit per such entity for the General Fund and for each Targeted Fund, which must apply to all applicants to the specific Fund, but the maximum subsidy limit per project or per project unit may differ among the Funds.

The text of § 1291.24(c)(1) accurately reflects FHFA's intent, but prompted a request for clarification of the language, specifically, how many different AHP subsidy limits may a Bank establish within each General Fund and Targeted Fund, or across multiple Funds. FHFA's intent was not to prohibit a Bank from establishing more than one type of limit per Fund, but to require that for each type established, the quantitative subsidy limit be applied uniformly across such Fund.³ Nor did the predecessor AHP regulatory text, which was located at § 1291.5(c)(15)(i), prohibit a Bank from applying more than one type of subsidy limit to its competitive application program, and FHFA did not propose such a prohibition in the 2018 proposed rule.

³ FHFA provided clarifying guidance in an April 2020 “Questions and Answers” document posted on its website and sent to the Banks. See Questions and Answers on the November 28, 2018 Final Rule—Part II (April 2020), available at https://www.fhfa.gov/PolicyProgramsResearch/Programs/AffordableHousing/Documents/AHP-FAQs-4-6-2020.pdf.

Accordingly, to provide greater clarity, FHFA is adding explanatory language in § 1291.24(c)(1) stating that each General Fund or Targeted Fund may contain up to all four of these optional AHP subsidy limits, each of which must apply to all applicants to the specific Fund. A Bank's AHP subsidy limit per member must be the same for each of its Funds and its AHP subsidy limit per project sponsor must be the same for each of its Funds, but a Bank's AHP subsidy limit per project and per project unit may differ among the Funds.

F. Removal of Superfluous Provision on Non-Delegation of Authority To Adopt AHP Subsidy Re-Use Policies—§ 1291.64(b)(2)

Section 1291.64(b)(2) of the 2018 final rule, which was retained from the predecessor AHP regulation (12 CFR 1291.8(f)(2)(ii) (Jan. 1, 2018 edition)), prohibits a Bank's board of directors from delegating to Bank officers or other Bank employees the responsibility to adopt any Bank policies on re-use of repaid AHP direct subsidies in the same project. Sections 1291.13(b)(12) and 1291.64(b)(1) of the 2018 final rule, also retained from the predecessor AHP regulation (12 CFR 1291.3(a)(7); 1291.8(f)(2)(i) (Jan. 1, 2018 edition)), require that these AHP subsidy re-use policies be included in the Bank's AHP Implementation Plan. Section 1291.13(b) of the 2018 final rule (introductory text) prohibits a Bank's board of directors from delegating to a committee of the board, Bank officers, or other Bank employees the responsibility for adopting or amending the Bank's AHP Implementation Plan, which, thus, includes adopting any AHP subsidy re-use policies in the Plan. The non-delegation provision for AHP subsidy re-use policies in § 1291.64(b)(2) is, therefore, superfluous.

Accordingly, to streamline the regulatory text, FHFA is removing the non-delegation provision in § 1291.64(b)(2), and making technical changes to the paragraph numbering in § 1291.64(b) to reflect this removal.

IV. Public Notice and Comment

The Administrative Procedures Act provides that when an agency for good cause finds that public notice and comment on a rule are impracticable, unnecessary, or contrary to the public interest, the agency may publish the rule in final form without prior public notice and comment. 5 U.S.C. 553(b)(B). Because this rule makes technical revisions that do not reflect any changes in the policy intent of the 2018 final rule, publication of proposed amendments with an opportunity for public comment would serve no useful public purpose. Accordingly, FHFA finds that public notice and comment on this rule is unnecessary and is proceeding directly to a final rule.

V. Consideration of Differences Between the Banks and Enterprises

Section 1313(f) of the Federal Housing Enterprises Financial Safety and Soundness Act of 1992 requires the FHFA Director, when promulgating regulations “of general applicability and future effect” relating to the Banks, to consider the differences between the Banks and Fannie Mae and Freddie Mac (the Enterprises) as they may relate to the Banks' cooperative ownership structure, mission of providing liquidity to members, affordable housing and community development mission, capital structure, and joint and several liability. 12 U.S.C. 4513(f). This rule applies only to the Banks. It makes technical revisions to align the 2018 final rule with FHFA's policy intent in that rule. In preparing the 2018 final rule, the Director considered the differences between the Banks and the Enterprises as they relate to the above factors, and determined that the amendments in the 2018 final rule were positive for the affordable housing mission of the Banks and neutral regarding the other statutory factors. Because this rule makes only technical revisions, none of which involves policy changes, no further analysis is needed under section 1313(f).

VI. Regulatory Determinations

A. Paperwork Reduction Act

This rule does not contain any information collection requirement that would require the approval of the Office of Management and Budget (OMB) under the Paperwork Reduction Act (PRA) (44 U.S.C. 3501 et seq.). Therefore, FHFA has not submitted any information to OMB for review for PRA purposes.

B. Regulatory Flexibility Act

The Regulatory Flexibility Act (5 U.S.C. 601 et seq.) requires that a regulation that has a significant economic impact on a substantial number of small entities, small businesses, or small organizations must include an initial regulatory flexibility analysis describing the regulation's impact on small entities. Such an analysis need not be undertaken if the agency has certified that the regulation will not have a significant economic impact on a substantial number of small entities. 5 U.S.C. 605(b). FHFA certified that the 2018 final rule was not likely to have a significant economic impact on a substantial number of small entities because it applied to the Banks, which are not small entities for purposes of the Regulatory Flexibility Act. 83 FR 61231. For these same reasons, and also because this rule makes only technical revisions to align the 2018 final rule with FHFA's policy intent in that rule, FHFA certifies that this rule is unlikely to have a significant economic impact on a substantial number of small entities.

C. Congressional Review Act

In accordance with the Congressional Review Act (5 U.S.C. 801 et seq.), FHFA has determined that this rule is not a major rule and has verified this determination with the Office of Information and Regulatory Affairs of the OMB.

List of Subjects

12 CFR Part 1290

Banks and banking, Credit, Federal home loan banks, Housing, Mortgages, Reporting and recordkeeping requirements.

12 CFR Part 1291

Community development, Credit, Federal home loan banks, Housing, Low- and moderate-income housing, Mortgages, Reporting and recordkeeping requirements.

For the reasons stated in the preamble, FHFA amends parts 1290 and 1291 of title 12 of the Code of Federal Regulations as follows:

PART 1290-COMMUNITY SUPPORT REQUIREMENTS

1. The authority citation for part 1290 continues to read as follows:

Authority: 12 U.S.C. 1430(g).

2. Amend § 1290.6 by revising paragraph (c) to read as follows:

§ 1290.6 Bank community support programs.

* * * * *

(c) Public access. A Bank shall publish its current Targeted Community Lending Plan on its publicly available website, and shall publish any amendments to its Targeted Community Lending Plan on the website within 30 days after the date of their adoption by the Bank's board of directors and no later than the date of publication on the website of its annual Affordable Housing Program Implementation Plan (as amended). If such amendments relate to the Bank's Affordable Housing Program, the Bank shall publish them no later than the date of publication on its website of its annual Affordable Housing Program Implementation Plan (as amended). If a Bank plans to establish any Targeted Funds under its Affordable Housing Program, the Bank must publish its Targeted Community Lending Plan (as amended) on the website at least 90 days before the first day that applications may be submitted to the Targeted Fund, unless the Targeted Fund is specifically targeted to address a Federal- or State-declared disaster.

PART 1291—FEDERAL HOME LOAN BANKS' AFFORDABLE HOUSING PROGRAM

3. The authority citation for part 1291 continues to read as follows:

Authority: 12 U.S.C. 1430(j).

§ 1291.1 [Amended]

4. Amend § 1291.1 in paragraph (1) of the definition of “Retention period” by:

a. Removing “unit or” and adding in its place “unit,”; and

b. Adding “, or for construction of the unit” before “; and”.

5. Amend § 1291.13 by revising paragraph (a)(2) to read as follows:

§ 1291.13 Targeted Community Lending Plan; AHP Implementation Plan.

(a) * * *

(2) Public access. A Bank shall publish its current Targeted Community Lending Plan on its publicly available website, and shall publish any amendments to its Targeted Community Lending Plan on the website within 30 days after the date of their adoption by the Bank's board of directors and no later than the date of publication on the website of its annual AHP Implementation Plan (as amended). If such amendments relate to the Bank's AHP, the Bank shall publish them no later than the date of publication on its website of its annual AHP Implementation Plan (as amended). If a Bank plans to establish any Targeted Funds under its AHP, the Bank must publish its Targeted Community Lending Plan (as amended) on the website at least 90 days before the first day that applications may be submitted to the Targeted Fund, unless the Targeted Fund is specifically targeted to address a Federal- or State-declared disaster.

* * * * *

§ 1291.15 [Amended]

6. Amend § 1291.15 in paragraph (a)(7) introductory text by:

a. Removing “or purchase” and adding in its place “for purchase”; and

b. Adding “or for construction” after “rehabilitation,”.

§ 1291.23 [Amended]

7. Amend § 1291.23 in paragraph (d)(1) by:

a. Removing “or for purchase” and adding in its place “for purchase”; and

b. Adding “or for construction” after “rehabilitation,”.

8. Amend § 1291.24 in paragraph (c)(1) by revising the second sentence and adding a third sentence to read as follows:

§ 1291.24 Eligible uses.

* * * * *

(c) * * *

(1) * * * Each General Fund or Targeted Fund may contain up to all four of these optional AHP subsidy limits, each of which must apply to all applicants to the specific Fund. A Bank's AHP subsidy limit per member must be the same for each of its Funds and its AHP subsidy limit per project sponsor must be the same for each of its Funds, but a Bank's AHP subsidy limit per project and per project unit may differ among the Funds * * *

* * * * *

§ 1291.25 [Amended]

9. Amend § 1291.25 in paragraph (c)(3) by removing the word “drawn” and adding in its place the word “selected”.

§ 1291.50 [Amended]

10. Amend § 1291.50 in paragraph (c)(1)(i) by removing the words “Bank review of annual certifications by project sponsors or owners to the Bank” and adding in their place the words “Bank review of all annual certifications to the Bank by project sponsors or owners, other than sponsors or owners of projects that have been allocated LIHTCs,”.

§ 1291.64 [Amended]

11. Amend § 1291.64 by:

a. Removing paragraph (b)(2) and the heading for paragraph (b)(1).

b. Redesignating paragraphs (b)(1) introductory text and (b)(1)(i), (ii), and (iii) as paragraphs (b) introductory text and (b)(1), (2), and (3), respectively.

Sandra L. Thompson,
Acting Director, Federal Housing Finance Agency.

[FR Doc. 2022-11543 Filed 5-31-22; 8:45 am]

BILLING CODE 8070-01-P